DEPARTMENT OF AGRICULTURE

Animal and Plant Health Inspection Service

[Docket No. APHIS-2022-0019]

National Wildlife Services Advisory Committee; Notice of Solicitation for Membership

AGENCY: Animal and Plant Health Inspection Service, USDA.

ACTION: Notice to solicit nominations for membership.

SUMMARY: Through this notice, the U.S. Department of Agriculture (USDA) is soliciting a call for nominations for membership to fill up to 20 vacancies for the National Wildlife Services Advisory Committee (NWSAC). The full committee consists of 20 members; each person selected is expected to serve a 2-year term. Membership will be composed of persons representing a broad spectrum of agricultural, environmental, conservation, academic, animal welfare, and related interests. The Animal and Plant Health Inspection Service expects the Secretary of Agriculture to appoint new Committee members for the entire committee in 2022. Please note, individuals who are federally registered lobbyists, appointed to committees to exercise their own individual best judgment on behalf of the government (e.g., as Special Government Employees) are ineligible to serve and cannot be considered for USDA advisory committee membership. Members can only serve on one USDA advisory committee at a time. All nominees will undergo a USDA background check. You must submit the following to nominate yourself or someone else to the NWSAC: A resume (required), a USDA Advisory Committee Membership Background Information Form AD-755, which is available online at https://www.usda.gov/sites/default/files/documents/ad-755.pdf (required), a cover letter (required), and a list of endorsements or letters of recommendation (optional). The resume or curriculum vitae must be limited to five one-sided pages and should include a summary of the following information: Current and past organization affiliations; areas of expertise; education; career positions held; and any other notable positions held.

DATES: Nomination packages including a cover letter to the Secretary, the nominee's typed resume or curriculum vitae, and a completed USDA Advisory Committee Membership Background Information Form AD-755 must be postmarked or emailed on or before August 2, 2022.

ADDRESSES: Ms. Carrie Joyce, Designated Federal Officer, U.S. Department of Agriculture, WS, APHIS, 4700 River Road, Unit 87, Riverdale, MD 20737; (301) 851-3999; email: carrie.e.joyce@usda.gov. Nomination packages should be addressed to the Secretary of Agriculture, at the attention of Ms. Carrie Joyce for the National Wildlife Services Advisory Committee.

FOR FURTHER INFORMATION CONTACT: Contact Ms. Carrie Joyce, Designated Federal Officer; email: carrie.e.joyce@usda.gov or by phone at (301) 851-3999.

SUPPLEMENTARY INFORMATION: Pursuant to the Federal Advisory Committee Act (5 U.S.C. App.), notice is hereby given that the Secretary of Agriculture will appoint members for the upcoming vacancies to serve a 2-year term of office beginning in 2022 and ending in 2024. The National Wildlife Services Advisory Committee (NWSAC) advises the Secretary of the U.S. Department of Agriculture (USDA) on policies, program issues, and research needed to conduct the Wildlife Services program. The Committee also serves as a public forum enabling those affected by the Wildlife Services program to have a voice in the program's policies. The Committee Chairperson and Vice Chairperson shall be elected by the Committee from among its members.

The Secretary of Agriculture invites those individuals, organizations, and groups affiliated with the categories listed in the SUMMARY section to nominate individuals or themselves for membership on the NWSAC.

The full Committee expects to meet at approximately once per year in-person, virtually, or by teleconference, and the meetings will be announced in the Federal Register. The Secretary of Agriculture seeks a diverse group of members representing a broad spectrum of persons interested in providing suggestions and ideas on the implementation of USDA's Wildlife Services program to protect America's agricultural, industrial, and natural resources and to safeguard public health and safety.

We are soliciting nominations from interested organizations and individuals. An organization may nominate individuals from within or outside of its membership; alternatively, an individual may nominate themselves. Nomination packages should include a nomination form along with a cover letter or resume that documents the nominee's experience. Nomination forms are available on the internet at https://www.usda.gov/sites/default/files/documents/ad-755.pdf or may be obtained from the person listed under FOR FURTHER INFORMATION CONTACT.

USDA Equal Opportunity Statement

Equal opportunity practices, in line with USDA policies, will be followed in all membership appointments to the committee. To ensure that the recommendations of the committee have taken into account the needs of the diverse groups served by the Department, membership shall include, to the extent practicable, individuals with demonstrated ability to represent minorities, women, and persons with disabilities.

The USDA prohibits discrimination in all of its programs and activities on the basis of race, color, national origin, religion, sex (including gender identity and sexual orientation), disability, age, marital status, familial or parental status, income derived from a public assistance program, political beliefs, genetic information, or reprisal or retaliation for prior civil rights activity, in any program or activity conducted or funded by USDA (not all bases apply to all programs).

USDA Non-Discrimination Statement

In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., braille, large print, audiotape, American Sign Language, etc.) should contact the responsible Agency or USDA's TARGET Center at (202) 720-2600 (voice and TTY) or contact USDA through the Federal Relay Service at (800) 877-8339. Additionally, program information may be made available in languages other than English.

Dated: May 25, 2022.
Cikena Reid,
Committee Management Officer, USDA.

[FR Doc. 2022-11903 Filed 6-2-22; 8:45 am]

BILLING CODE 3410-34-P